DEPARTMENT OF COMMERCE

National Oceanic and Atmospheric Administration

RIN 0648-XG386

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Ad Hoc Ecosystem Workgroup (EWG) will hold a meeting via webinar, which is open to the public.

DATES: The webinar meeting will be held on Tuesday, August 21, 2018, from 1:30 p.m. to 3:30 p.m. (Pacific Daylight Time) or until business for the day has been completed.

ADDRESSES: The meeting will be held via webinar. A public listening station is available at the Pacific Council office (address below). To attend the webinar (1) join by visiting this link http://www.gotomeeting.com/online/webinar/join-webinar, (2) enter the Webinar ID: 241-675-131, and (3) enter your name and email address (required). After logging in to the webinar, please (1) dial this TOLL number +1 (415) 655-0052 (not a toll-free number), (2) enter the attendee phone audio access code 563-806-284, and (3) then enter your audio phone pin (shown after joining the webinar). NOTE: We have disabled Mic/Speakers as an option and require all participants to use a telephone or cell phone to participate. Technical Information and system requirements: PC-based attendees are required to use Windows® 7, Vista, or XP; Mac®-based attendees are required to use Mac OS® X 10.5 or newer; Mobile attendees are required to use iPhone®, iPad®, Android™ phone or Android tablet (See https://www.gotomeeting.com/webinar/ipad-iphone-android-webinar-apps). You may send an email to Mr. Kris Kleinschmidt at Kris.Kleinschmidt@noaa.gov or contact him at (503) 820-2280, extension 411 for technical assistance.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: The EWG is holding this webinar to help other Council advisory bodies and the public prepare comments on two topics the Council will take up at its September 7-12, 2018 meeting. First, the Council will be deciding on future activities as part of the Climate and Communities Initiative pursuant to its Fishery Ecosystem Plan (FEP). Second, the Council will be scoping the first 5-year review of the FEP. The Council may consider initiating revisions to FEP and forming any new ad hoc committees necessary to revise the Plan. To help advisory bodies and the public make comments on these topics the EWG prepared two sets of discussion questions, available on the Council's website (https://www.pcouncil.org/):

• Webinar Discussion Questions

• Webinar Agenda

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt, (503) 820-2411, at least 10 business days prior to the meeting date.

Dated: August 1, 2018.
Tracey L. Thompson,
Acting Deputy Director, Office of Sustainable Fisheries, National Marine Fisheries Service.

[FR Doc. 2018-16809 Filed 8-6-18; 8:45 am]

BILLING CODE 3510-22-P